DEPARTMENT OF THE INTERIOR

National Park Service

36 CFR 7

The Negotiated Rule Making Advisory Committee for Off-Road Driving Regulations at Fire Island National Seashore; Notice of Meeting

AGENCY: National Park Service, Interior.

ACTION: Notice of meetings of the Negotiated Rulemaking Committee.

Notice is hereby given in accordance with the Federal Advisory Committee Act (Pub. L. 92-463, 86 Stat. 770, 5 U.S.C. App 1, section 10), that a meeting of the Negotiated Rule Making Advisory Committee for Off-Road Driving Regulations at Fire Island National Seashore (36 CFR 7.20)

DATES: The Committee members will meet on: Friday and Saturday May 9th and 10th, 2003.

The meetings will begin at 9 a.m. and will be held at Dowling College, Brookhaven Campus, New York.

Meetings will be held for the following reasons:

May 9, 2003—Friday

1. Discussion of proposed Agenda.

2. Discussion of Progress since Last Meeting.

3. Review of Proposed Draft Consensus Agreement.

4. Public Participation Period.

5. Adjournment.

May 10, 2003—Saturday

1. Continued Review of Draft Consensus Agreement.

2. Public Participation Period.

3. Vote on Draft Consensus Agreement.

4. Adjournment.

FOR FURTHER INFORMATION CONTACT: Superintendent, Fire Island National Seashore, 120 Lauren Street, Patchogue, New York 11772 (631) 289-4810 Ext. 225.

SUPPLEMENTARY INFORMATION: The meeting is open to the public. It is expected that 25 persons will be able to attend the meeting in addition to the Committee members.

The Committee was established pursuant to the Negotiated Rulemaking Act of 1990 (5 U.S.C. 561-570). The purpose of the Committee is to advise the National Park Service with regard to proposed rulemaking governing off-road vehicle use at Fire Island National Seashore.

Interested persons may make oral/written presentations to the Committee during the business meeting or file written statements. Such presentations may be made to the Committee during the public participation period the day of the meeting, or in writing to the Park Superintendent at least seven days prior to the meeting.

Barry Sullivan,
Acting Superintendent, Fire Island National Seashore.

[FR Doc. 03-10021 Filed 4-22-03; 8:45 am]

BILLING CODE 4310-70-M